DEPARTMENT OF ENERGY

International Energy Agency Meeting

AGENCY: Department of Energy.

ACTION: Notice of meetings.

SUMMARY: The Industry Advisory Board (IAB) to the International Energy Agency (IEA) will meet on March 16, 2005, at the headquarters of the IEA in Paris, France, in connection with a meeting of the IEA's Standing Group on Emergency Questions.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Federation, Paris, France, on March 16, 2005, beginning at 8:30 a.m. The purpose of this notice is to permit attendance by representatives of U.S. company members of the IAB at a meeting of the IEA's Standing Group on Emergency Questions (SEQ), which is scheduled to be held at the IEA on March 16, beginning at 9:30 a.m., including a preparatory encounter among company representatives from 8:30 a.m. to 9:15 a.m. The agenda for the preparatory encounter is as follows:

I. Welcome, Review of Agenda, and Introductions.

II. Review of ERE 3 Issues.

—Regional Supply Disruptions.

—Market Understanding of Government Participants.

III. Discussion of Potential SEQ Activities.

IV. Closing and Review of Meetings of Interest to IAB Members.

—SEQ and IAB Meeting, June 21-22, 2005, Paris.

—SEQ and IAB Meeting, November 16-17, 2005, Paris (tentative).

The agenda for the SEQ meeting is under the control of the SEQ. It is expected that the SEQ will adopt the following agenda:

1. Adoption of the Agenda.

2. Approval of the Summary Record of the 112th Meeting.

3. Program of Work.

—Evaluation of EPPD Activities 2003-2004.

—Overview of Future Work in 2005.

4. Update on Compliance with IEP Stockholding Commitments.

—-Update on Compliance with IEP Stockholding Commitments.

—Analysis of the Reasons for Non-Compliance.

—Reports by Non-Complying Member Countries.

—Possible Measures to Assure Compliance with IEA Stockholding Commitments.

5. The Current Oil Market Situation and Emergency Preparedness.

—Report on the New York Conference “Oil Price Formation & Speculative Activity”, November 22-23, 2004, at NYMEX.

—Discussion of Present Oil Market and Emergency Preparedness.

6. Emergency Response Exercise 3.

—Summary and Appraisal of the Third Emergency Response Training and Simulation Exercise.

7. Report on Current Activities of the IAB.

8. Policy and Other Developments in Member Countries.

—Report on U.S. Symposium on Stockholding, November 30-December 2, 2004.

—Report on KKKSZ Conference on Extended EU-Extended Security, Budapest, November 3-5, 2004.

9. Emergency Response Review Program.

—Emergency Response Review of Greece.

—Schedule of Emergency Response Reviews.

—Questionnaire Response of the Netherlands.

10. Other Emergency Response Activities.

—Report on MOS/JODI Meeting of Statisticians.

—Report on Workshop on Managing Oil Demand in Transport.

—Report on Advanced Oil and Gas Upstream Technologies—Possible Impact on Reserves.

—Progress on Project to Catalogue Member Country Emergency Legislation.

11. Activities with Non-Member Countries and International Organizations.

—Progress on IEA and EU Data Comparison.

12. Other Documents for Information.

—Emergency Reserve Situation of IEA Member Countries on January 1, 2005.

—Emergency Reserve Situation of IEA Candidate Countries on January 1, 2005.

—Monthly Oil Statistics: December 2004.

—Base Period Final Consumption: 1Q 2004-4Q 2004.

—Quarterly Oil Forecast: 1Q 2005.

—Dispute Settlement Centre: Panel of Arbitrators.

—Update of Emergency Contacts List.

13. Other Business.

—Preparations for the IEA Governing Board Meeting at the Ministerial Level, May 2-3, 2005.

—Dates of Next Meetings: June 21-22, 2005; November 16-17, 2005 (tentative).

As provided in section 252(c)(1)(A)(ii) of the Energy Policy and Conservation Act (42 U.S.C. 6272(c)(1)(A)(ii)), the meetings of the IAB are open to representatives of members of the IAB and their counsel; representatives of members of the IEA's Standing Group on Emergency Questions (SEQ); representatives of the Departments of Energy, Justice, and State, the Federal Trade Commission, the General Accounting Office, Committees of Congress, the IEA, and the European Commission; and invitees of the IAB, the SEQ, or the IEA.

Issued in Washington, DC, March 3, 2005.
Diana D. Clark,
Acting Assistant General Counsel for International and National Security Programs.

[FR Doc. 05-4457 Filed 3-8-05; 8:45 am]

BILLING CODE 6450-01-P